DEPARTMENT OF AGRICULTURE

Grain Inspection, Packers and Stockyards Administration

Official Wet Gluten Determination for Hard Red Winter and Hard Red Spring Wheat

AGENCY: Grain Inspection, Packers and Stockyards Administration, USDA.

ACTION: Notice.

SUMMARY: The Grain Inspection, Packers and Stockyards Administration (GIPSA) is announcing its intent to provide official determination of wet gluten content for Hard Red Winter (HRW) wheat and Hard Red Spring (HRS) wheat using a protein-based calibration on official near-infrared transmittance (NIRT) instruments. GIPSA will provide wet gluten content determination in hard red wheat as official criteria under the authority of the United States Grain Standards Act (USGSA).

DATES: Effective Date: May 1, 2006.

FOR FURTHER INFORMATION CONTACT: Steven N. Tanner, Director, Technical Services Division, GIPSA, USDA, 10383 N. Ambassador Drive, Kansas City, Missouri 64153; telephone (816) 891-0401; fax (816) 891-0478.

SUPPLEMENTARY INFORMATION: Buyers of wheat often ask for analysis of functional characteristics of the commodity being purchased, seeking data on factors other than determined during official inspection, including gluten functionality. Gluten, the primary functional protein in wheat, is responsible for the unique ability of milled wheat to produce bread, pasta, and noodle products. To date, GIPSA's official inspection system has not previously offered this information. Given industry interest in this factor, GIPSA will now provide wet gluten determinations in hard red wheat. Wet gluten concentration is highly correlated to the total crude protein concentration of wheat. GIPSA utilized this correlation to develop a protein-based equation for predicting wet gluten content, on a 14 percent moisture basis, applicable to Hard Red Winter (HRW) wheat and Hard Red Spring (HRS) wheat.

GIPSA will implement the new wet gluten prediction equation on official NIRT instruments for hard red classes of wheat on May 1, 2006. The wet gluten test will be available upon request of an interested person, as official criteria for HRS and HRW wheat, under the authority of the USGSA, as amended. GIPSA believes offering this service will facilitate the marketing of wheat. Additional information will be posted on the GIPSA Web site at: http://www.gipsa.usda.gov/.

Authority: Pub. L. 94-582, 90 Stat. 2867, as amended (7 U.S.C. 71 et seq.).

Patricia Donohue-Glavin,
Acting Administrator, Grain Inspection, Packers and Stockyards Administration.

[FR Doc. 06-4078 Filed 4-27-06; 8:45 am]

BILLING CODE 3410-EN-P